DEPARTMENT OF VETERANS AFFAIRS

Advisory Committee on Structural Safety of Department of Veterans Affairs Facilities, Notice of Meeting

The Department of Veterans Affairs (VA) gives notice under Federal Advisory Committee Act, 5 U.S.C. 10, that a meeting of the Advisory Committee on Structural Safety of Department of Veterans Affairs Facilities will be held on July 10-11, 2025. The meeting sessions will take place at 1800 G Street NW, Room 705, Washington, DC. The meeting sessions will begin and end as follows:

Dates | Times | Open session
July 10, 2025 | 9:00 a.m. to 5:00 p.m. Eastern Standard Time (EST) | Yes.
July 11, 2025 | 9:00 a.m. to 12:00 p.m. EST | Yes.

The meeting sessions are open to the public.

The purpose of the Committee is to advise the Secretary of Veterans Affairs on matters of structural safety in the construction and remodeling of VA facilities and to recommend standards for use by VA in the construction and alteration of its facilities.

The meeting will be hybrid, held in-person and virtual, and the Committee will receive appropriate briefings and presentations on current seismic, natural hazards, and fire safety issues that are particularly relevant to facilities owned and leased by the Department. The Committee will also discuss appropriate structural and fire safety recommendations for inclusion in VA's construction standards.

No time will be allocated for receiving oral presentations from the public. However, the Committee will accept written comments. Comments should be emailed to Juan Archilla, Designated Federal Officer for the Committee, Facilities Standards Service, Office of Construction & Facilities Management (003C2B), Department of Veterans Affairs, at juan.archilla@va.gov. In the communication, writers must identify themselves and state the organization, association, or person(s) they represent. For any members of the public that wish to attend virtually, they may use the Microsoft TEAMS link or call in with the phone number and passcode below:

July 10: https://teams.microsoft.com/l/meetup-join/19%3ameeting_YzU1YjcxODQtOGM4MC00MTBmLWExOTAtYWZiZjNlNjk5YWY1%40thread.v2/0?context=%7b%22Tid%22%3a%22e95f1b23-abaf-45ee-821d-b7ab251ab3bf%22%2c%22Oid%22%3a%22d2eb6490-e84d-4737-b9ce-b5664e018fd6%22%7d, Meeting ID: 297 179 120 508 2, Passcode: Pg2n6Wm7, or to join by phone (audio only): +1-872-701-0185,,660022870#, Phone conference ID: 660 022 870#.

July 11: https://teams.microsoft.com/l/meetup-join/19%3ameeting_YmU4NDZmMTktZGM3Ni00YjI5LTk2MDEtZDY2MWM1MGFkNDU3%40thread.v2/0?context=%7b%22Tid%22%3a%22e95f1b23-abaf-45ee-821d-b7ab251ab3bf%22%2c%22Oid%22%3a%22d2eb6490-e84d-4737-b9ce-b5664e018fd6%22%7d, Meeting ID: 289 935 135 770 1, Passcode: YZ7aD35y, or to join by phone (audio only): +1-872-701-0185,,746305966#, Phone conference ID: 746 305 966#.

Those seeking additional information or wishing to attend should contact Mr. Archilla at the email address noted above or by phone at 202-286-4076.

Dated: June 18, 2025.
Jelessa M. Burney,
Federal Advisory Committee Management Officer.

[FR Doc. 2025-11445 Filed 6-20-25; 8:45 am]

BILLING CODE 8320-01-P